DEPARTMENT OF COMMERCE

National Oceanic and Atmospheric Administration

[RTID 0648-XA367]

New England Fishery Management Council; Public Meeting

AGENCY: National Marine Fisheries Service (NMFS), National Oceanic and Atmospheric Administration (NOAA), Commerce.

ACTION: Notice of a public hearing.

SUMMARY: The New England Fishery Management Council is convening a public hearing of Draft Amendment 23 to Northeast Multispecies Fishery Management Plan to consider actions affecting New England fisheries in the exclusive economic zone (EEZ). This hearing may be held either in-person as an outdoor gathering or via webinar. Details of the hearing will be provided on the Council's website at https://www.nefmc.org/calendar/aug-26-2020-public-hearing-groundfish-amendment-23. A summary of all comments received will be provided to the full Council.

DATES: This hearing will be held on Wednesday, August 26, 2020, between 3 p.m.-8 p.m.

ADDRESSES: This hearing may be held either in-person as an outdoor gathering in the Greater Boston area or via webinar. The decision to hold the hearing as an outdoor in-person gathering will be based on COVID-19 pandemic guidance as determined by the Commonwealth of Massachusetts and other factors as determined by the Executive Director in consultation with the Council Chair.

Meeting addresses: The meeting will be held via webinar or in-person as an outdoor gathering. Should the hearing be planned as in-person, details on the location, as well as meeting guidelines and public safety requirements, will be provided on the Council's website. Because of state-mandated limits on the size of outdoor gatherings, in-person meeting attendees may be asked to register in advance and may be assigned to a specific time slot. If a planned in-person meeting has to be cancelled due to adverse weather or other conditions, a webinar hearing will be held in its place.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: Public comments: The public comment deadline is August 31, 2020. Mail written comments to Thomas A. Nies, Executive Director, New England Fishery Management Council, 50 Water Street, Mill #2, Newburyport, MA 01950. Mark the outside of the envelope “DEIS for Amendment 23 to the Northeast Multispecies FMP”. Comments may also be sent via fax to 978-465-3116 or submitted via email to comments@nefmc.org with “DEIS for Amendment 23 to the Northeast Multispecies FMP” in the subject line.

Agenda

Council staff will brief the public on Draft Amendment 23 before receiving comments on the amendment. The hearing will begin promptly at the time indicated above. If all attendees who wish to do so have provided their comments prior to the end time indicated, the hearing may conclude early. To the extent possible, the Council may extend hearings beyond the end time indicated above to accommodate all attendees who wish to speak.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 7, 2020.
Tracey L. Thompson,
Acting Deputy Director, Office of Sustainable Fisheries, National Marine Fisheries Service.

[FR Doc. 2020-17642 Filed 8-11-20; 8:45 am]

BILLING CODE 3510-22-P